Title 3—

The President

Proclamation 7660 of April 8, 2003

National Former Prisoner of War Recognition Day, 2003

By the President of the United States of America

A Proclamation

America's former prisoners of war (POWs) are national heroes whose service to our country will never be forgotten. These brave men and women who fought for America and endured cruelties and deprivation as prisoners of war helped to protect our Nation, liberated millions of people from the threats of tyranny and terror, and advanced the cause of freedom worldwide.

This year, our Nation commemorates the 50th anniversary of the signing of the armistice to end armed conflict in the Korean War. We remember Operation Little Switch, conducted April through May 1953, that freed 149 American POWs, and Operation Big Switch, conducted August through September 1953, which returned 3,597 Americans to our country. Finally, Operation Glory, conducted July through November 1954, was responsible for the return of the remains of 2,944 Americans from North Korea. During this observance, we also recognize and honor the more than 8,100 Americans still unaccounted for from the Korean War.

This year also marks the 30th anniversary of Operation Homecoming, in which 591 American POWs from Vietnam were returned. We also recognize and honor those Americans still unaccounted for from the Vietnam War.

All of these individuals are to be honored for their strength of character and for the difficulties they and their families endured. From World War II, the Korean War, and Vietnam, to the 1991 Gulf War, Operation Iraqi Freedom, and other conflicts, our service men and women have sacrificed much to secure freedom, defend the ideals of our Nation, and free the oppressed. By answering the call of duty and risking their lives to protect others, these proud patriots continue to inspire us today as we work with our allies to extend peace, liberty, and opportunity to people around the world.

As we honor our former POWs, we are reminded of our current POWs, captured in Operation Iraqi Freedom. We will work to secure their freedom, and we pray for their speedy and safe return. These brave men and women in uniform follow in the footsteps of these former POWs who placed country above self to advance peace in a troubled world.

NOW, THEREFORE, I, GEORGE W. BUSH, President of the United States of America, by virtue of the authority vested in me by the Constitution and laws of the United States, do hereby proclaim April 9, 2003, as National Former Prisoner of War Recognition Day. I call upon all the people of the United States to join me in remembering former American prisoners of war by honoring the memory of their sacrifices and in praying for the safe return of our POWs. I also call upon Federal, State, and local government officials and private organizations to observe this day with appropriate ceremonies and activities.

IN WITNESS WHEREOF, I have hereunto set my hand this eighth day of April, in the year of our Lord two thousand three, and of the Independence of the United States of America the two hundred and twenty-seventh.

B

[FR Doc. 03-9156

Filed 4-10-03; 11:02 am]

Billing code 3195-01-P